DEPARTMENT OF HOUSING AND URBAN DEVELOPMENT

[Docket No. FR-7092-N-26]

Privacy Act of 1974; System of Records

AGENCY: Office of Housing Counseling, HUD.

ACTION: Notice of a rescindment of a system of records.

SUMMARY: Pursuant to the provisions of the Privacy Act of 1974, as amended, the Department of the Housing and Urban Development (HUD), the Office of Housing Counseling, is issuing a public notice of its intent to rescind the Housing Counseling System (HCS) because the system no longer collects any personally identifiable information (PII).

DATES: Comments will be accepted on or before May 13, 2024. This proposed action will be effective immediately upon publication.

ADDRESSES: You may submit comments, identified by one of the following methods:

Federal e-Rulemaking Portal: http://www.regulations.gov. Follow the instructions provided on that site to submit comments electronically.

Fax: 202-619-8365.

Email: privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to http://www.regulations.gov.

FOR FURTHER INFORMATION CONTACT: LaDonne White, Chief Privacy Officer, 451 Seventh Street SW, Room 10139, Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Housing Counseling system (HCS) is a system Housing uses to manage HUDs Housing Counseling program. HCS is the sole web-based application to input, review, report and analyze data on HUD's Housing Counseling program. HCS is a real-time automated data management system to manage the housing counseling program by maintaining the HUD-Approved housing counseling agency list, providing their profile information to program users, processing their grant applications, sharing data with other SF Housing programs, and collecting agencies HUD-9902 reports. Based on a recent review, it was determined that the HCS system no longer collects Personal Identifiable Information (PII). The existing PII will remain in a database that is only accessible through a database extraction tool that recalls the data located in the database. This is a tool only used by the contractor assigned to manage the database. It was determined that previously collected PII data is not Mission Critical Data and therefore is no longer required. Records are no longer maintained by the Office of Housing Counseling and have run the record retention period. The records were wiped from the system. The electronic records were destroyed in accordance with schedule 20 of the National Archives and Records Administration General Records Schedule.

SYSTEM NAME AND NUMBER:

Housing Counseling System/Counseling Activity Reporting System, HUD/HS-23.

HISTORY:

The previously published notice in the Federal Register [Docket Number FR-5130-N-32], on October 21, 2008 at 73 FR 62522.

LaDonne White,
Chief Privacy Officer, Office of Administration.

[FR Doc. 2024-07771 Filed 4-11-24; 8:45 am]

BILLING CODE 4210-67-P